DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security (SSS).

Time and Date:

9 a.m. to 5 p.m., August 19, 2003.

9 a.m. to 5 p.m., August 20, 2003.

8:30 a.m. to 1 p.m., August 21, 2003.

Place: Washington Terrace Hotel, 1515 Rhode Island Avenue, NW., Washington, DC 20005.

Status: Open.

Purpose: The agenda for Tuesday, August 19th includes discussion on Drug and Devise Terminologies. The morning session on the 20th will be devoted to reviewing the PMRI Terminology report. During the afternoon session, discussion will take place on the analysis of the impact of moving to ICD-10-CM and ICD-10-PCS. On the 21st, a wrap up of day one and two will begin the session followed by an update on Claims Attachments. Discussion of updates/issues related to the Financial and Administrative Transaction Implementation will end the day.

For Further Information Contact: Substantive program information as well as summaries of meetings and a roster of Committee members may be obtained from Karen Trudel, Senior Technical Advisor, Security and Standards Group, Centers for Medicare and Medicaid Services, MS: C5-24-04, 7500 Security Boulevard, Baltimore, MD 21244-1850, telephone: 410-786-9937; or Majorie S. Greenberg, Executive Secretary, NCVHS, National Center for Health Statistics, Centers for Diseases Control and Prevention, Room 2413, 3311 Toledo Road, Hyattsville, Maryland 20782, telephone: (301) 438-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: July 15, 2003.
James Scanlon,
Acting Director, Office of Science and Data Policy, Office of the Assistant Secretary for Planning and Evaluation.

[FR Doc. 03-19266 Filed 7-28-03; 8:45 am]

BILLING CODE 4151-05-M